DEPARTMENT OF STATE

[Public Notice 5596]

30-Day Notice of Proposed Information Collection: DS-3052, Nonimmigrant V Visa Application, OMB Control Number 1405-0128

ACTION: Notice of request for public comment and submission to OMB of proposed collection of information.

SUMMARY: The Department of State has submitted the following information collection request to the Office of Management and Budget (OMB) for approval in accordance with the Paperwork Reduction Act of 1995.

• Title of Information Collection: Nonimmigrant V Visa Application.

• OMB Control Number: 1405-0128.

• Type of Request: Extension of Currently Approved Collection.

• Originating Office: Bureau of Consular Affairs, Office of Visa Services (CA/VO).

• Form Number: DS-3052.

• Respondents: Applicants for a V nonimmigrant visa.

• Estimated Number of Respondents: 1,500.

• Estimated Number of Responses: 1,500.

• Average Hours per Response: 1 hour.

• Total Estimated Burden: 1,500 hours.

• Frequency: Once per application.

• Obligation to Respond: Required to Obtain Benefit.

DATES: Submit comments to the Office of Management and Budget (OMB) for up to 30 days from October 27, 2006.

ADDRESSES: Direct comments and questions to Katherine Astrich, the Department of State Desk Officer in the Office of Information and Regulatory Affairs at the Office of Management and Budget (OMB), who may be reached at 202-395-4718. You may submit comments by any of the following methods:

• E-mail: Katherine_T._Astrich@omb.eop.gov. You must include the DS form number, information collection title, and OMB control number in the subject line of your message.

• Mail (paper, disk, or CD-ROM submissions): Office of Information and Regulatory Affairs, Office of Management and Budget, 725 17th Street, NW., Washington, DC 20503.

• Fax: 202-395-6974.

FOR FURTHER INFORMATION CONTACT: Direct requests for additional information regarding the collection listed in this notice, including requests for copies of the proposed information collection and supporting documents, to Andrea Lage of the Office of Visa Services, U.S. Department of State, 2401 E Street, NW., L-603, Washington, DC 20522, who may be reached at (202) 663-1221 or lageab@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond.

Abstract of proposed collection: The V visa application (Form DS-3052) is used to collect information on second preference spouses and children of permanent residence for whom petitions were filed on or before December 12, 2000, and who have been waiting for three or more years for petition approval, adjustment of status, or an immigrant visa, who are applying for a nonimmigrant visa to enter the United States. The form request biographical information on the applicant and information on the immigrant petition that was filed on the applicant's behalf. Consular officer use the information on this form to determine eligibility for V visa status.

Methodology: DS-3052 is submitted to U.S. embassies and consulates overseas and is available online at http://www.travel.state.gov. The form can be filled out online and then printed.

Dated: October 2, 2006.
Stephen A. Edson,
Deputy Assistant Secretary, Bureau of Consular Affairs, Department of State.

[FR Doc. E6-18032 Filed 10-26-06; 8:45 am]

BILLING CODE 4710-06-P